SECURITIES AND EXCHANGE COMMISSION

17 CFR Part 275

[Release No. IA-6773; File No. S7-03-22]

Private Fund Advisers; Documentation of Registered Investment Adviser Compliance Reviews

Correction

In Rule Document 2024-26524, appearing on pages 91252 through 91253, in the issue of Tuesday, November 19, 2024, make the following correction:

On page 91253, in the first column, in the 14th and 15th lines the text “[INSERT DATE OF PUBLICATION IN THE FEDERAL REGISTER]” should read “November 19, 2024”.

[FR Doc. C1-2024-26524 Filed 12-2-24; 4:15 pm]

BILLING CODE 0099-10-D